FEDERAL COMMUNICATIONS COMMISSION

47 CFR Part 64

[WC Docket Nos. 23-62, 12-375, DA 23-638; FR ID 172388]

2023 Mandatory Data Collection for Incarcerated People's Communications Services

AGENCY: Federal Communications Commission.

ACTION: Final rule; announcement of effective date.

SUMMARY: In this document, the Federal Communications Commission (Commission) announces that the Office of Management and Budget (OMB) has approved, for a period of three years, an information collection associated with the 2023 IPCS Mandatory Data Collection Order, DA 22-638, issued by the Commission's Wireline Competition Bureau (WCB) and Office Economics and Analytics (OEA) on July 26, 2023. In that Order, WCB and OEA adopted instructions, a reporting template, and a certification form to implement the 2023 Mandatory Data Collection related to incarcerated people's communications services (IPCS). OMB approved that data collection on September 11, 2023. The instant document is consistent with the 2023 IPCS Mandatory Data Collection Order, which indicated that the Commission would publish notification in the Federal Register announcing that OMB approved the data collection and that the 2023 IPCS Mandatory Data Collection Order would be effective on the date specified in the notice. In accordance with that Order, responses to the 2023 Mandatory Data Collection are due October 31, 2023.

DATES: The 2023 IPCS Mandatory Data Collection Order, published August 3, 2023 at 88 FR 51240, including the information collection requirements adopted in that Order, is effective on September 21, 2023.

FOR FURTHER INFORMATION CONTACT: Simon Solemani, Pricing Policy Division, Wireline Competition Bureau, (202) 418-2270, or email simon.solemani@fcc.gov.

SUPPLEMENTARY INFORMATION: This document announces that, on September 11, 2023, OMB approved, for a period of three years, the information collection requirements adopted on July 26, 2023, in the 2023 IPCS Mandatory Data Collection Order, DA 23-638, published August 3, 2023 at 88 FR 51240. The OMB Control Number is 3060-1314. In the 2023 IPCS Mandatory Data Collection Order, WCB and OEA directed that the requirements for the 2023 Mandatory Data Collection adopted in that Order would become effective on the date specified in a document published in the Federal Register announcing OMB approval. The Commission publishes this document as an announcement of the effective date of the 2023 IPCS Mandatory Data Collection Order. IPCS providers' responses to the data collection are due on October 31, 2023.

If you have any comments on the 2023 Mandatory Data Collection, or how the Commission can improve the collections and reduce any burdens caused thereby, please contact Nicole Ongele, Federal Communications Commission, 45 L Street NE, Washington, DC 20002. Please include the OMB Control Number, 3060-1314, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on September 11, 2023 for the information collection requirements contained in the 2023 IPCS Mandatory Data Collection Order. Under 5 CFR part 1320, an agency may not conduct or sponsor a collection of information unless it displays a current, valid OMB Control Number. No person shall be subject to any penalty for failing to comply with a collection of information subject to the Paperwork Reduction Act that does not display a current, valid OMB Control Number. The OMB Control Number is 3060-1314.

The foregoing notification is required by the Paperwork Reduction Act of 1995, Public Law 104-13, October 1, 1995, and 44 U.S.C. 3507.

The total data collection burdens and costs for the respondents are as follows:

OMB Control Number: 3060-1314.

OMB Approval Date: September 11, 2023.

OMB Expiration Date: September 30, 2026.

Title: Incarcerated People's Communications Services (IPCS) 2023 Mandatory Data Collection, WC Docket Nos. 23-62, 12-375, DA 23-638.

Form Numbers: FCC Form 2303(a) and FCC Form 2303(b).

Respondents: Business or other for profit.

Number of Respondents and Responses: 30 respondents; 30 responses.

Estimated Time per Response: 265 hours.

Frequency of Response: One-time reporting requirement.

Total Annual Burden: 7,950 hours.

Total Annual Cost: No cost.

Obligation to Respond: Required to obtain or retain benefits. Statutory authority for this information collection is contained in sections 1, 2, 4(i)-(j), 5(c), 201(b), 218, 220, 225, 255, 276, 403, and 716 of the Communications Act of 1934, as amended, 47 U.S.C. 151, 152, 154(i)-(j), 155(c), 201(b), 218, 220, 225, 255, 276, 403, and 617.

Needs and Uses: On March 17, 2023, the Commission released the Incarcerated People's Communications Services; Implementation of the Martha Wright-Reed Act; Rates for Interstate Inmate Calling Services, WC Docket Nos. 23-62, 12-375, Notice of Proposed Rulemaking and Order, FCC 23-19, 88 FR 20804 (Notice of Proposed Rule Making) and 88 FR 19001 (Order), in which it began the process of implementing the Martha Wright-Reed Just and Reasonable Communications Act of 2022, Public Law 117-338, 136 Stat. 6156 (the Act). The Act expands the Commission's statutory authority to encompass “any audio or video communications service used by inmates . . . regardless of technology used.” The Act also amends section 2(b) of the Communications Act of 1934, as amended, to make clear that the Commission's jurisdiction extends to intrastate as well as interstate and international communications services used by incarcerated people.

The Act directs the Commission to “promulgate any regulations necessary to implement” the statutory provisions, including its mandate that the Commission establish a “compensation plan” ensuring that all rates and charges for IPCS “are just and reasonable,” not earlier than 18 months and not later than 24 months after its January 5, 2023 enactment. The Act also requires the Commission to consider, as part of its implementation, the costs of “necessary” safety and security measures, as well as “differences in costs” based on facility size, or “other characteristics.” It allows the Commission to “use industry-wide average costs of telephone service and advanced communications services and the average costs of service of a communications service provider” in determining just and reasonable rates.

To ensure that it has the data needed to meet its substantive and procedural responsibilities under the Act, the Commission delegated to WCB and OEA authority to “update and restructure” the Commission's latest mandatory data collection, the Third Mandatory Data Collection (OMB Control No. 3060-1300, Inmate Calling Services (ICS) 2022 One-Time Mandatory Data Collection), “as appropriate in light of the requirements of the new statute.” This delegation requires WCB and OEA to collect “data on all incarcerated people's communications services from all providers of those services now subject to” the Commission's expanded ratemaking authority, including, but not limited to, requesting “more recent data for additional years not covered by the most recent data collection.”

Pursuant to their delegated authority, WCB and OEA drafted proposed instructions, a reporting template, and a certification form for the proposed 2023 Mandatory Data Collection. Under these proposals, IPCS providers would be required to submit the required data using a reporting template that would be filed through the Commission's electronic comment filing system (ECFS). The proposed reporting template included a Word document (Appendix A to the instructions) for responses requiring narrative information and Excel spreadsheets (Appendix B to the instructions) for responses that require specific numbers or information. IPCS providers would also be required to submit an audited financial statement or report for 2022, and a signed certification of truthfulness, accuracy, and completeness. The proposed instructions, reporting template, and certification form would simplify compliance with, and reduce the burden of, this data collection.

On April 28, 2023, WCB and OEA released the 2023 IPCS Mandatory Data Collection Public Notice seeking comment on all aspects of the proposed instructions, reporting template, and certification form. See 2023 IPCS Mandatory Data Collection Public Notice, WC Docket Nos. 23-62, 12-375, DA 23-355 (WCB/OEA April 28, 2023), 88 FR 27850 (May 3, 2023). After considering the comments and reply comments filed in response to the Public Notice and the 60-Day Notice, WCB and OEA released an Order on July 26, 2023, adopting the 2023 Mandatory Data Collection, and issuing the related instructions, reporting template, and certification form. See 2023 IPCS Mandatory Data Collection Order, WC Docket Nos. 23-62, 12-375, DA 23-638 (WCB/OEA July 26, 2023). The Order largely implements the proposals set forth in the Public Notice, with refinements and reevaluations responsive to record comments. Under the Order, IPCS providers will be required to submit data using a reporting template to be filed through ECFS in accordance with the instructions adopted by WCB and OEA. The reporting template consists of a Word document (Appendix A to the instructions) for responses requiring narrative information, and Excel spreadsheets (Appendix B to instructions) for responses that require specific numbers and information. IPCS providers will also be required to submit an audited financial statement or report for 2022, and a signed certification of truthfulness, accuracy, and completeness.

Federal Communications Commission.
Lynne Engledow,
Deputy Chief, Pricing Policy Division, Wireline Competition Bureau.

[FR Doc. 2023-20518 Filed 9-20-23; 8:45 am]

BILLING CODE 6712-01-P